ENVIRONMENTAL PROTECTION AGENCY

[FRL-8443-8]

Science Advisory Board Staff Office EPA Clean Air Scientific Advisory Committee (CASAC) Panel for Review of EPA's Lead Renovation, Repair, and Painting (LRRP) Activities; Notification of a Public Advisory Committee Meeting (Teleconference)

AGENCY: Environmental Protection Agency (EPA).

ACTION: Notice.

SUMMARY: The Environmental Protection Agency (EPA or Agency) Science Advisory Board (SAB) Staff Office announces a public teleconference of the Clean Air Scientific Advisory Committee (CASAC) Panel for Review of EPA's Lead Renovation, Repair, and Painting (LRRP) Activities (CASAC Panel) to hold follow-on discussions to inform the CASAC's forthcoming letter to the EPA Administrator resulting from its July 9-10, 2007 meeting to conduct a peer review of EPA's Draft Approach for Estimating Changes in Children's IQ from Lead Dust Generated During Renovation, Repair, and Painting in Residences and Child-Occupied Facilities (Draft LRRP Activity IQ-Change Methodology, June 2007), and the Draft Final Report on Characterization of Dust Lead Levels After Renovation, Repair, and Painting Activities (OPPT Dust Study, January 2007).

DATES: The teleconference meeting will be held on Tuesday, August 7, 2007, from 1 p.m. to 5 p.m. (Eastern Time).

FOR FURTHER INFORMATION CONTACT: Any member of the public who wishes to obtain the teleconference call-in number and access code; submit a written or brief oral statement (three minutes or less); or receive further information concerning this teleconference meeting, must contact Mr. Fred Butterfield, Designated Federal Officer (DFO). Mr. Butterfield may be contacted at the EPA Science Advisory Board (1400F), U.S. Environmental Protection Agency, 1200 Pennsylvania Avenue, NW., Washington, DC 20460; or via telephone/voice mail: (202) 343-9994; fax: (202) 233-0643; or e-mail at: butterfield.fred@epa.gov. General information concerning the CASAC or the EPA SAB can be found on the EPA Web site at: http://www.epa.gov/sab.

SUPPLEMENTARY INFORMATION: Background: The CASAC, which is comprised of seven members appointed by the EPA Administrator, was established under section 109(d)(2) of the Clean Air Act (CAA or Act) (42 U.S.C. 7409) as an independent scientific advisory committee. The CASAC provides advice, information and recommendations on the scientific and technical aspects of issues related to air quality criteria and NAAQS under sections 108 and 109 of the Act. The CASAC is chartered under the Federal Advisory Committee Act (FACA), as amended, 5 U.S.C., App. The CASAC Panel consists of the seven CASAC members supplemented by subject-matter-experts. The CASAC Panel provides advice and recommendations to EPA concerning the Agency's proposed rule for LRRP activities. The Panel complies with the provisions of FACA and all appropriate SAB Staff Office procedural policies.

On July 9-10, 2007, at the request of EPA's Office of Pollution Prevention and Toxics (OPPT), within the Agency's Office of Prevention, Pesticides and Toxic Substances (OPPTS), the CASAC Panel met in a public meeting in Durham, NC to conduct a peer review of the Agency's Draft LRRP Activity IQ-Change Methodology and the OPPT Dust Study. The purpose of this public teleconference meeting is to hold follow-on discussions to inform the CASAC's forthcoming letter to the Administrator resulting from its July 9-10 meeting.

Availability of Meeting Materials: Materials for this CASAC Panel teleconference will be posted on the SAB Web Site at: http://www.epa.gov/sab/panels/casac_adv_tech_assessment_lrrp.htm prior to the meeting. In addition, the Draft LRRP Activity IQ-Change Methodology is posted on EPA's “Lead in Paint, Dust, and Soil: Renovation, Repair, and Painting Program” Web site at: http://www.epa.gov/lead/pubs/casac.htm; and the OPPT Dust Study is posted on the Agency's “Lead Safe Work Requirements to Protect Children During Renovation, Repair and Painting Activities” Web site at: http://www.epa.gov/lead/pubs/renovation.htm#info.

Procedures for Providing Public Input: Interested members of the public may submit relevant written or oral information for the CASAC Panel to consider during the advisory process.

Oral Statements: In general, individuals or groups requesting an oral presentation at a public teleconference will be limited to three minutes per speaker, with no more than a total of 30 minutes for all speakers. Interested parties should contact Mr. Butterfield, CASAC DFO, in writing (preferably via e-mail), by July 31, 2007, at the contact information noted above, to be placed on the list of public speakers for this meeting. Written Statements: Written statements should be received in the SAB Staff Office by August 3, 2007, so that the information may be made available to the CASAC Panel for their consideration prior to this teleconference. Written statements should be supplied to the DFO in the following formats: One hard copy with original signature (optional), and one electronic copy via e-mail (acceptable file format: Adobe Acrobat PDF, WordPerfect, MS Word, MS PowerPoint, or Rich Text files in IBM-PC/Windows 98/2000/XP format).

Accessibility: For information on access or services for individuals with disabilities, please contact Mr. Butterfield at the phone number or e-mail address noted above, preferably at least ten days prior to the meeting, to give EPA as much time as possible to process your request.

Dated: July 16, 2007.
Anthony F. Maciorowski,
Deputy Director, EPA Science Advisory Board Staff Office.

[FR Doc. E7-14169 Filed 7-20-07; 8:45 am]

BILLING CODE 6560-50-P